FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
015530N | Distinction Cargo Management Inc., Cargo Bldg. 9, Suite #255, JFK International Airport, Jamaica, NY 11413 | February 15, 2010.
015847NF | Straightline Logistics, Inc., One Cross Island Plaza, Suite 203-G, Rosedale, NY 11422 | February 13, 2010.
018250F | Consolidation Shipping & Logistic, (USA) Inc., 219 Stuyvesant Avenue, Lyndhurst, NJ 01071 | February 13, 2010.
021870N | AKM International, LLC, 301 Varick Street, Jersey City, NJ 07302 | February 19, 2010.

Sandra L. Kusumoto,
Director, Bureau of Certification and Licensing.

[FR Doc. 2010-5831 Filed 3-16-10; 8:45 am]

BILLING CODE P